FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted
March 1, 2016 Thru March 31, 2016
03/01/2016
20160741 | G | Siemens Aktiengesellschaft; Sharron L. MacDonald; Siemens Aktiengesellschaft.
20160756 | G | Sun Capital Partners V, L.P.; Vince Holding Corp.; Sun Capital Partners V, L.P.
20160763 | G | DSW Inc.; David Tam Duong; DSW Inc.
20160764 | G | DSW Inc.; Willard Ba Huynh; DSW Inc.
03/02/2016
20160727 | G | Qingdao Haier Co., Ltd.; General Electric Company; Qingdao Haier Co., Ltd.
20160732 | G | Total System Services, Inc.; Vista Equity Partners Fund V, L.P.; Total System Services, Inc.
20160757 | G | Opus Bank; PENSCO Services, LLC; Opus Bank.
03/03/2016
20160772 | G | Microsoft Corporation; Xamarin Inc.; Microsoft Corporation.
03/04/2016
20160755 | G | Web.com Group, Inc.; Yodle, Inc.; Web.com Group, Inc.
20160771 | G | GTCR Fund XI/A LP; Lytx, Inc.; GTCR Fund XI/A LP.
20160784 | G | Genstar Capital Partners VII, L.P.; Athlaction Topco, LLC; Genstar Capital Partners VII, L.P.
20160789 | G | Nautic Partners VII, L.P.; Dale Wollschleger; Nautic Partners VII, L.P.
20160794 | G | Western Gas Partners, LP; Anadarko Petroleum Corporation; Western Gas Partners, LP.
20160801 | G | Kleiner Perkins Caufield & Byers XIV, LLC; TESARO, Inc.; Kleiner Perkins Caufield & Byers XIV, LLC.
20160808 | G | Highstar Capital IV Prism AIF, L.P.; Wildcat Midstream Partners LLC; Highstar Capital IV Prism AIF, L.P.
20160809 | G | Cerberus Institutional Partners V, L.P.; Haggen Operations Holdings, LLC; Cerberus Institutional Partners V, L.P.
03/07/2016
20160807 | G | Suzhou Dongshan Precision Manufacturing Co., Ltd.; United Engineers Limited; Suzhou Dongshan Precision Manufacturing Co., Ltd.
20160810 | G | Stryker Corporation; Bain Capital Fund X, L.P.; Stryker Corporation.
03/08/2016
20160691 | G | Platinum Equity Capital Partners III, L.P.; Lindsay Goldberg III L.P.; Platinum Equity Capital Partners III, L.P.
03/09/2016
20160773 | G | Cisco Systems, Inc.; Jasper Technologies, Inc.; Cisco Systems, Inc.
20160778 | G | AP VIII Prime Security Services Holdings, L.P.; The ADT Corporation; AP VIII Prime Security Services Holdings, L.P.
20160819 | G | Envision Healthcare Holdings, Inc.; Emergency Physicians Medical Group, P.C.; Envision Healthcare Holdings, Inc.
03/10/2016
20160753 | G | Kaiser Foundation Health Plan, Inc.; Group Health Cooperative; Kaiser Foundation Health Plan, Inc.
20160761 | G | Tyco International plc; Johnson Controls, Inc.; Tyco International plc.
20160779 | G | Carlyle Power Partners II, L.P.; IFM Global Infrastructure Fund; Carlyle Power Partners II, L.P.
20160787 | G | Novartis AG; Transcend Medical, Inc.; Novartis AG.
20160804 | G | Welsh, Carson, Anderson & Stowe XII, L.P.; Intuit Inc.; Welsh, Carson, Anderson & Stowe XII, L.P.
03/11/2016
20160673 | G | Microchip Technology Incorporated; Atmel Corporation; Microchip Technology Incorporated.
03/14/2016
20160800 | G | MPLX LP; Marathon Petroleum Corporation; MPLX LP.
20160812 | G | Vista Outdoor Inc.; BRG Sports, LLC; Vista Outdoor Inc.
20160817 | G | The Energy & Minerals Group Fund IV, LP; CONSOL Energy Inc.; The Energy & Minerals Group Fund IV, LP.
20160820 | G | MKS Instruments, Inc.; Newport Corporation; MKS Instruments, Inc.
20160824 | G | Wells Fargo & Company; West Star Aviation, Inc.; Wells Fargo & Company.
20160825 | G | Helen of Troy Limited; James Collis; Helen of Troy Limited.
20160827 | G | H.I.G. Middle Market LBO Fund II, L.P.; Intuit Inc.; H.I.G. Middle Market LBO Fund II, L.P.
03/15/2016
20160758 | G | TE Connectivity Ltd.; Permira IV Continuing L.P. 2; TE Connectivity Ltd.
03/17/2016
20160619 | G | Boise Cascade Company; Koch Industries Inc; Boise Cascade Company.
03/18/2016
20160829 | G | National General Holdings Corp.; Kramer-Wilson Company, Inc.; National General Holdings Corp.
20160830 | G | ResMed Inc.; Battery Ventures VIII (AIV IV), L.P.; ResMed Inc.
20160841 | G | TA XII-A L.P.; Bertram Growth Capital II, L.P.; TA XII-A L.P.
20160847 | G | JFL Equity Investors IV, L.P.; API Technologies Corp.; JFL Equity Investors IV, L.P.
20160860 | G | Roark Capital Partners III LP; Trivest Fund IV, L.P.; Roark Capital Partners III LP.
20160861 | G | Lotte Chemical Corporation; Samsung SDI Co., Ltd.; Lotte Chemical Corporation.
03/21/2016
20160776 | Y | Comcast Corporation; Time Warner Inc.; Comcast Corporation.
03/22/2016
20160781 | G | Diamond Parent Holdings, Corp.; Diligent Corporation; Diamond Parent Holdings, Corp.
20160846 | G | Kirby Corporation; SEACOR Holdings, Inc.; Kirby Corporation.
20160848 | G | GTCR Fund XI/A LP; Vector Laboratories, Inc.; GTCR Fund XI/A LP.
03/23/2016
20160822 | G | American Securities Partners VI, L.P.; Moelis Capital Partners Opportunity Fund I, LP; American Securities Partners VI, L.P.
20160844 | G | The Doctors Company; Anthony J. Bonomo; The Doctors Company.
03/24/2016
20160839 | G | Mr. Len Blavatnik; LyondellBasell Industries N.V.; Mr. Len Blavatnik.
03/25/2016
20160863 | G | The Resolute Fund III, L.P.; Harbour Group Investments V, L.P.; The Resolute Fund III, L.P.
20160864 | G | Sykes Enterprises, Incorporated; Pamlico Capital II, L.P.; Sykes Enterprises, Incorporated.
20160866 | G | Longview Direct Equity Fund LLC; Comvest Investment Partners IV, L.P.; Longview Direct Equity Fund LLC.
20160867 | G | BRH Holdings, L.P.; Apollo Investment Corporation; BRH Holdings, L.P.
20160868 | G | BB&T Corporation; EC3 Union Holdings, Ltd.; BB&T Corporation.
20160870 | G | General Motors Company; Cruise Automation, Inc.; General Motors Company.
20160872 | G | Agrolimen, S.A.; Catterton Growth Partners, L.P.; Agrolimen, S.A.
20160873 | G | Riverside Capital Appreciation Fund VI, L.P.; Wells Fargo & Company; Riverside Capital Appreciation Fund VI, L.P.
20160883 | G | Apax VIII-B L.P.; Becton, Dickinson and Company; Apax VIII-B L.P.
20160891 | G | Sumitomo Metal Mining Co., Ltd.; Freeport-McMoRan Inc.; Sumitomo Metal Mining Co., Ltd.
20160892 | G | Green Equity Investors Side VI, L.P.; Ares Corporate Opportunities Fund III, L.P.; Green Equity Investors Side VI, L.P.
20160893 | G | Green Equity Investors VI, L.P.; Ares Corporate Opportunities Fund III, L.P.; Green Equity Investors VI, L.P.
20160895 | G | SK Capital Partners IV-A, L.P.; Johnson & Johnson; SK Capital Partners IV-A, L.P.
20160899 | G | Apollo Crisp, L.P.; The Fresh Market, Inc.; Apollo Crisp, L.P.
03/28/2016
20160835 | G | Elliott International Limited; Qlik Technologies Inc.; Elliott International Limited.
20160838 | G | Elliott Associates, L.P.; Qlik Technologies Inc.; Elliott Associates, L.P.
20160889 | G | Arsenal Capital Partners III, LP; Hickory Springs Manufacturing Company; Arsenal Capital Partners III, LP.
03/29/2016
20160798 | G | Sterling Group Partners III, L.P.; Marubeni Corporation; Sterling Group Partners III, L.P.
20160806 | G | Sterling Group Partners III, L.P.; DY Automotive, LLC; Sterling Group Partners III, L.P.
20160890 | G | Enercare Inc.; American Capital, Ltd.; Enercare Inc.
03/30/2016
20160853 | G | The Southern Company; PowerSecure International, Inc.; The Southern Company.
20160880 | G | PGPC-Milestone LLC; Thompson Street Capital Partners II, L.P.; PGPC-Milestone LLC.
20160881 | G | William C. Stone; SS&C Technologies Holdings, Inc.; William C. Stone.
03/31/2016
20160879 | G | ZMC II, L.P.; MSouth Equity Partners II, L.P.; ZMC II, L.P.
20160882 | G | Arbor Realty Trust, Inc.; Ivan Kaufman; Arbor Realty Trust, Inc.

FOR FURTHER INFORMATION CONTACT: Theresa Kingsberry, Program Support Specialist, Federal Trade Commission, Premerger Notification Office, Bureau of Competition, Room CC-5301, Washington, DC 20024, (202) 326-3100.

By direction of the Commission.
Donald S. Clark
Secretary.

[FR Doc. 2016-10049 Filed 4-28-16; 8:45 am]

BILLING CODE 6750-01-P